DEPARTMENT OF HOMELAND SECURITY

Coast Guard

33 CFR Part 117

[Docket No. USCG-2015-1013]

Drawbridge Operation Regulation; Delaware River, Between Burlington, NJ and Bristol, PA

AGENCY: Coast Guard, DHS.

ACTION: Notice of deviation from drawbridge regulation.

SUMMARY: The Coast Guard has issued a temporary deviation from the operating schedule that governs the Burlington-Bristol Bridge on Route 413, across the Delaware River, at mile 117.8, between Burlington, NJ and Bristol, PA. This deviation restricts the operation of the draw span in order to facilitate the replacement of the tender control house. The drawbridge will not be able to open for three days during this project.

DATES: This deviation is effective from 6 a.m. on April 1, 2016, to 6 a.m. on April 11, 2016.

ADDRESSES: The docket for this deviation, [USCG-2015-1013] is available at http://www.regulations.gov.

FOR FURTHER INFORMATION CONTACT: If you have questions on this temporary deviation, call or email Terrance Knowles, Environmental Protection Specialist, Fifth Coast Guard District, at telephone 757-398-6587, email Terrance.A.Knowles@uscg.mil.

SUPPLEMENTARY INFORMATION: The Burlington County Bridge Commission, who owns and operates this vertical-lift type drawbridge, has requested a temporary deviation from the current operating regulations set out in Title 33 Code of Federal Regulations Part 117.716 to facilitate the replacement of the Tender control house.

The Burlington-Bristol Bridge on Route 413, at mile 117.8, across the Delaware River, between Burlington NJ and Bristol PA, has a vertical clearance in the closed position to vessels of 61 feet above mean high water.

Under this temporary deviation, the Burlington-Bristol Bridge will be closed to navigation and unable to open on signal from 6 a.m. Friday April 1, 2016 through Monday April 4, 2016 at 6 a.m. The alternate marine closure weekend period will be Friday April 8, 2016 at 6 a.m. through Monday April 11, 2016 at 6:00 a.m. At all other times, the drawbridge will operate in accordance with the operating regulations set out in 33 CFR 117.716.

Vessels able to pass through the bridge in the closed position may do so at any time. The bridge will not be able to open for emergencies and there is no immediate alternate route for vessels to pass.

There are approximately four to six vessels per week from four facilities whose vertical clearance surpasses the closed bridge position, requiring an opening of the draw span. The Coast Guard has coordinated this tender house replacement work with the Delaware Pilots Association and will inform the other users of the waterway through our Local and Broadcast Notices to Mariners of the change in operating schedule for the bridge, so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 3, 2015.
Hal R. Pitts,
Bridge Program Manager, Fifth Coast Guard District

[FR Doc. 2015-31114 Filed 12-9-15; 8:45 am]

BILLING CODE 9110-04-P